DEPARTMENT OF COMMERCE

International Trade Administration

[A-423-808, A-122-830, A-475-822, A-580-831, A-791-805, A-583-830]

Notice of Amended Antidumping Duty Orders; Certain Stainless Steel Plate in Coils From Belgium, Canada, Italy, the Republic of Korea, South Africa, and Taiwan

Correction

In notice document 03-5891 beginning on page 11520 in the issue of Tuesday, March 11, 2003, make the following correction:

On page 11521, in the table, in the second column, under “Cash deposit rate”, in the fourth entry from the bottom, “77%1¹” should read “37.77%¹”.

[FR Doc. C3-5891 Filed 4-1-03; 8:45 am]

BILLING CODE 1505-01-D